DEPARTMENT OF TRANSPORTATION

Federal Highway Administration

Environmental Impact Statement: Merced County, CA

AGENCY: Federal Highway Administration (FHWA), DOT.

ACTION: Notice of intent.

SUMMARY: The FHWA is issuing this notice to advise the public that an environmental impact statement will be prepared for a proposed expressway project in Merced County,in Merced County, California.

FOR FURTHER INFORMATION CONTACT: Mr. Robert F. Tally, Team Leader, District Operations—North, California Division, 980 9th Street, Suite 400, Sacramento, CA 95814-2724, Telephone: (916) 498-5020.

SUPPLEMENTARY INFORMATION: The FHWA, in cooperation with the California Department of Transportation (Caltrans) and the Merced County Department of Public Works, will prepare an environmental impact statement (EIS) on a proposal to construct a regional arterial, the Campus Parkway, in Merced County. The proposed project would involve the construction of an alignment, between the State Route 99/Mission Avenue Interchange to the southwest and the Bellevue Road to the northeast. The project would be approximately 10.5 kilometers (6.5 miles) in length.

Construction of this corridor is considered necessary to provide for the locally projected future traffic demand and conform with the regional transportation planning for the year 2020. The proposed project would provide access to the Merced's eastern industrial area, the northern area of the city of Merced, and the University Community Specific Use Development Plan area near Lake Yosemite, which encompasses the site for the campus of the University of California at Merced. Alternatives under consideration include: (1) Taking no action and (2) constructing a four-lane limited access highway on the ultimate six-lane Right-of-Way. Incorporated into and studied with the various build alternatives will be design variations of grade and alignment.

Letter describing the proposed action and soliciting comments will be sent to appropriate Federal, State, and Local agencies, and to private organizations and citizens who have previously expressed or are known to have interest in this proposal. Public information meetings will be held in Merced County between March and November 2000. In addition, a public hearing will be held. Public notice will be given of the time and place of the meetings and hearing. The draft EIS will be available for public and agency review and comment prior to the public hearing. No formal scoping meeting is planned at this time.

To ensure that the full range of issues relate to this proposed action are addressed and all significant issues are identified, comments and suggestions are invited from all interested parties. Comments or questions concerning this proposed action and the EIS should be directed to the FHWA at the address provided above.

(Catalog of Federal Domestic Assistance program Number 20.205, Highway research, Planning and Construction. The regulations implementing Executive Order 12372 regarding intergovernmental consultation on Federal programs and activities apply to this program)

Issued on: January 19, 2000.
Robert F. Tally,
Team Leader, District Operations—North California Division, Federal Highway Administration.

[FR Doc. 00-1712 Filed 1-24-00; 8:45 am]

BILLING CODE 4910-22-M